DEPARTMENT OF ENERGY

Federal Energy Regulatory Commission

[Project No. 2307-083]

Alaska Electric Light & Power Company; Notice of Availability of Environmental Assessment

In accordance with the National Environmental Policy Act of 1969 and the Federal Energy Regulatory Commission's (Commission or FERC) regulations, 18 Code of Federal Regulations (CFR) part 380, Commission staff reviewed Alaska Electric Light and Power Company's application for an amendment to the license of the Annex Creek and Salmon Creek Hydroelectric Project No. 2307 and have prepared an Environmental Assessment (EA). The licensee proposes to replace the aging Annex Creek penstock. The valvehouse would also be expanded to include an automated valve and controls located immediately downstream of the originally manually operated gate valve. The project is located on Annex and Salmon Creeks in the City and Borough of Juneau, Alaska. The project occupies federal lands within the Tongass National Forest administered by the U.S. Forest Service.

The EA contains Commission staff's analysis of the potential environmental effects of the proposed amendment to the license, and concludes that the proposed amendment, with appropriate environmental protective measures, would not constitute a major federal action that would significantly affect the quality of the human environment.

A copy of the EA may be viewed on the Commission's website at http://www.ferc.gov using the “elibrary” link. Enter the docket number (P-2307) in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at 1-866-208-3372, or for TTY, (202) 502-8659.

For further information, contact Marybeth Gay at 202-502-6125 or Marybeth.Gay@ferc.gov.

Dated: May 16, 2022.
Kimberly D. Bose,
Secretary.

[FR Doc. 2022-10873 Filed 5-19-22; 8:45 am]

BILLING CODE 6717-01-P